DEPARTMENT OF EDUCATION

RIN 1810-ZA08

Migrant Education Program Consortium Incentive Grant Program

AGENCY: Office of Elementary and Secondary Education, Department of Education.

ACTION: Notice of proposed requirements.

SUMMARY: The Department proposes requirements for the Migrant Education Program (MEP) Consortium Incentive Grant program. Under the authority of section 1308(d) of Title I of the Elementary and Secondary Education Act of 1965 (ESEA), as amended by the No Child Left Behind Act of 2001, the Department would award incentive grants to State educational agencies (SEAs) in high-quality consortium arrangements. The Department may use these requirements for competitions in Fiscal Year (FY) 2003 and later years.

DATES: We must receive your comments on or before August 11, 2003.

ADDRESSES: All comments concerning these proposed requirements should be addressed to: Elsa Chagolla, Office of Migrant Education, Office of Elementary and Secondary Education, 400 Maryland Avenue, Room 3E257, FOB-6, SW., Washington, DC 20202-6135. Telephone: (202) 260-2823. If you prefer to send your comments through the Internet, use the following address: elsa.chagolla@ed.gov.

If you want to comment on the information collection requirements, you must send your comments to the Office of Management and Budget at the address listed in the Paperwork Reduction Act section of this preamble. You may also send a copy of these comments to the Department representative named in this section.

FOR FURTHER INFORMATION CONTACT: Elsa Chagolla, Telephone: (202) 260-2823, or via Internet: elsa.chagolla@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed requirements. During and after the comment period, you may inspect all public comments about these proposed requirements in room 3E257, 400 Maryland Avenue, Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed regulations. If you want to schedule an appointment for this type of aid, please contact the person listed under FOR FURTHER INFORMATION CONTACT.

Background

The Migrant Education Program (MEP), authorized in Title I, Part C of the Elementary and Secondary Education Act of 1965 (ESEA), as amended by the No Child Left Behind Act of 2001, is a State-operated and State-administered formula grant program. The MEP provides assistance to State educational agencies (SEAs) to support high-quality and comprehensive educational programs that provide migratory children appropriate educational and supportive services that address their special needs in a coordinated and efficient manner, and give migratory children the opportunity to meet the same challenging State academic content and student academic achievement standards that all children are expected to meet.

Section 1308(d) of the ESEA authorizes the Secretary to “reserve not more than $3 million to award grants of not more than $250,000 [each] on a competitive basis to SEAs that propose a consortium arrangement with another State or other appropriate entity that the Secretary determines, pursuant to criteria that the Secretary shall establish, will improve the delivery of services to migratory children whose education is interrupted.”

Through this notice, the Department proposes the new requirements, criteria, and procedures to award consortium incentive grants in Fiscal Year (FY) 2003 and subsequent years. In brief, the Department proposes to change: (1) The way proposed consortia are evaluated by using application selection criteria; and (2) the funding formula under which the incentive grants are awarded to SEAs that participate in consortia whose applications are ranked as being of sufficiently high quality. The Department proposes these changes for two reasons. First, it will promote implementation of consortia that will achieve meaningful results. Second, since section 1308(d) now permits the Department to award consortium incentive grants without SEAs having to demonstrate resulting MEP administrative or program function cost savings, the Department will be able to implement a grant selection process that focuses much more on the quality of proposed consortium arrangements.

Proposed Definition for Eligibility for Consortium Incentive Grants

Section 1308(d) permits an SEA to enter into a consortium arrangement with another State or other appropriate entity. The Department proposes that the term “other appropriate entity” would mean any public or private agency or organization. However, under section 1308(d), only SEAs are eligible applicants to receive consortium incentive grants.

Proposed Application Requirements

An application for an incentive grant would be submitted by an SEA that will act as the “lead SEA” for the proposed consortium. This application would include—

1. The identity of the lead SEA for the consortium arrangement and of each other SEA or entity participating in the consortium arrangement;

2. The goals and measurable outcomes of the consortium arrangement, and the activities that each participating SEA or entity in the consortium will conduct during each project year to improve the delivery of services to migratory children whose education is interrupted;

3. A concise and cogent explanation of the need for and value of the proposed consortium arrangement to each participating SEA;

4. A description of the process each participating SEA will use for evaluating its progress in achieving the measurable outcomes of the consortium arrangement; and

5. A signed statement from the Chief State School Officer (or his/her authorized representative) of each SEA that is participating in the proposed consortium arrangement of his/her SEA's commitment to implement its activities as described in the application.

Proposed Absolute Priorities

Section 75.105(c)(3) of the Education Department General Administrative Regulations (EDGAR) authorizes the Department to establish absolute preferences under which all of a program's funding is reserved for applicants that meet this priority. For competitions in FY 2003 and later years, the Department proposes the following seven absolute priorities that promote key national objectives of the MEP. In order for SEAs to be considered for incentive grants, a proposed consortium arrangement would need to address one or more of the following absolute priorities:

1. Services designed to improve the proper and timely identification and recruitment of eligible migratory children whose education is interrupted;

2. Services designed (based on review of scientifically based research) to improve the school readiness of pre-school age migratory children whose education is interrupted;

3. Services designed (based on review of scientifically based research) to improve the reading proficiency of migratory children whose education is interrupted;

4. Services designed (based on review of scientifically based research) to improve the mathematics proficiency of migratory children whose education is interrupted;

5. Services designed (based on review of scientifically based research) to decrease the dropout rate of migratory students (i.e. grades 7 to 12) whose education is interrupted and improve high school completion rates;

6. Services designed (based on review of scientifically based research) to strengthen the involvement of migratory parents in the education of migratory students whose education is interrupted; and

7. Services designed (based on review of scientifically based research) to expand access to innovative educational technologies intended to increase the academic achievement of migratory students whose education is interrupted.

Specifically, an SEA wishing to receive an incentive grant would need to be a partner within a consortium that focuses on one or more of these seven key priorities. The Department believes that these seven priorities reflect the most pressing needs of migratory students that warrant particular attention through work in consortium arrangements.

The area of identification and recruitment is a critical first component of any migrant education program, and one in which consortium activities have proven useful and effective. The areas of early childhood education, reading and mathematics achievement, parental involvement, and reduction in the migrant dropout rate are critical to ensuring that migratory students stay in school and achieve to high academic content and academic performance standards. However, to date, these areas have not been a primary focus of consortia efforts. As school interruption and low levels of student achievement continue to be dominant characteristics of the migrant student population, finding innovative uses of electronic technologies to assist students away from home to continue to master State content and academic achievement standards also remains a priority.

In proposing these particular priorities to govern receipt of consortium incentive grants, the Department understands that migratory students have other significant needs that also warrant the focused attention of interstate and interagency consortia. These efforts, in areas such as improving the responsiveness of teachers to migrant student needs, transfer of key education and health records, and increasing the numbers of migratory students who take and pass State assessments, are clearly important and should continue. However, the Department believes that migratory students will be better served at this time by targeting special financial incentives to SEAs that participate in high-quality consortia that focus on one or more of the proposed seven absolute priorities.

Proposed Amount and Duration of Incentive Grants

The Department proposes that an SEA that participates in a high-quality consortium arrangement, as determined by use of the program's selection criteria, would receive only one incentive grant award regardless of the number of high-quality consortia in which it participates.

Rather than determine the amount of grant awards on the basis of a cost analysis as described in section 75.232 of the EDGAR, the Department would make awards to SEAs participating in these consortia on the basis of the following two-tiered formula: For each project period, SEAs whose MEP allocations are $1 million or less would receive a grant award that is twice the amount of the award provided to SEAs whose MEP allocations are greater than $1 million. Within each tier, awards would be of equal size. However, no SEA would receive an incentive grant award that exceeds the amount of its Title I, Part C MEP formula grant or $250,000, whichever is less.

It should be noted that, because these requirements would prohibit an SEA from receiving a consortium incentive grant award that exceeds its MEP formula allocation, some SEAs with MEP allocations of $1 million or less may not receive a consortium incentive grant award that is twice the amount of the award provided to SEAs whose MEP allocations are greater than $1 million.

In proposing to award only one incentive grant per SEA and to utilize a two-tiered formula, subject to the limitations discussed above, for making incentive grants, the Department is recognizing that these awards are by law, only “incentives” for SEAs to enter into high-quality consortium arrangements, and as such are not necessarily intended to pay the costs of consortium activities.

While the award of these grants offers all SEAs an incentive to participate in consortium arrangements, the use of this two-tiered formula would recognize the particular resource needs of SEAs whose MEPs are $1 million or less. Section 1303(d)(1) directs the Department to specifically consult with SEAs that receive MEP allocations of $1 million or less in order to determine whether their participation in consortium arrangements would result in the delivery of MEP services in a more effective and efficient manner.

On February 25, 2003, officials of the Department's Office of Migrant Education (OME) met with the MEP Directors from those SEAs that receive an MEP allocation of $1 million or less in order to discuss their States' special needs. One of the foremost concerns these State MEP Directors raised was the need to receive a consortium incentive grant fund amount large enough to encourage and enable their State MEPs' full participation in consortium arrangements. Responding to a possible option of having all SEAs that participated in high-quality consortia receive the same size consortium incentive grant, participants recommended that the Department consider awarding a higher consortium incentive grant amount to those States that receive MEP grants of $1 million or less.

The idea of awarding a higher level of consortium incentive grant funds to SEAs that receive MEP allocations of $1 million or less was later proposed to all the State MEP Directors in attendance at the February 26-27, 2003 Annual Meeting of State MEP Directors, and no objections were raised.

In short, the proposed two-tiered approach for awarding consortium incentive grants eliminates the costs and burdens associated with the individual SEAs and consortia preparing and reviewing their estimated cost savings, as was required under this program in prior years.

Based on these consultations with the State MEP Directors, the Department believes that the proposed two-tiered funding formula offers two advantages over other proposals. First, with little burden on SEAs, it provides a reasonable and efficient basis for awarding consortium incentive grant funds. In addition, it will assist those SEAs that receive MEP allocations of $1 million or less obtain the funds they need to participate effectively in consortium arrangements, while also administering and operating their State MEPs.

For FY 2003, the Department proposes to reserve $2.5 million for consortium incentive awards. The amount of awards in future years would vary and would be announced prior to any future competition. With a $2.5 million reservation of funds, the annual award to SEAs participating in consortium arrangements would vary from $35,738 (if all 52 SEAs received grants under this competition) to $250,000 (the statutory maximum). Based on the number of States that received consortium incentive grants (39) in FY 2002, the size of an annual award would be $45,997 for SEAs whose MEP allocations are greater than $1 million and $91,995 for SEAs whose MEP allocations are $1 million or less. The actual size of an SEA's award will depend on the number of SEAs that will participate in high-quality consortium arrangements as determined on the basis of this program's selection criteria, and the size of an SEA's MEP formula grant allocation.

Consortium incentive grants would be awarded for up to two years. (For example, the Department would not conduct a new incentive grant competition with FY 2004 funds; rather it would use FY 2004 funds for second-year continuation awards to those SEAs receiving FY 2003 incentive awards.) Pursuant to section 75.118 and 75.590 of EDGAR, each SEA that receives a consortium incentive grant award would submit a performance report (through the consortium's lead State) toward the end of the first project year, and a final evaluation report at the end of the second year. Eligibility of each SEA for second-year continuation funding would depend on that State's substantial performance of first-year consortium activities and attaining the outcomes identified in the approved consortium application.

Proposed Selection Criteria

The Department proposes to use the selection criteria from the general criteria for competitive grants contained in section 75.210 of EDGAR to evaluate applications for the incentive grants competition. The proposed selection criteria can be found in the application package, which is available on the following Web site: http://www.ed.gov/offices/OESE/OME/index.html. Applications would be reviewed and ranked on the basis of how well the information provided responds to these final selection criteria. Regardless of the number of consortium incentive grant applications ranked as being of sufficiently high quality in which an SEA participates, each SEA would receive only one incentive grant award.

Proposed Use of Consortium Incentive Grant Funds

An SEA that receives an incentive grant award would use this financial incentive to supplement its MEP formula grant funds provided under ESEA section 1303(a). Therefore, the SEA could use incentive grant funds to implement the consortium arrangement's activities or to carry out any other activities authorized under section 1306(b) of the ESEA. Moreover, general requirements governing the use and reporting of awarded funds would be governed by provisions of part 76 of EDGAR, which govern State-administered formula grant programs rather than provisions of part 75 of EDGAR, which govern discretionary grant programs.

Regulatory Flexibility Act Certification

The Department certifies that these proposed requirements would not have a significant economic impact on a substantial number of small entities. Entities that would be affected by these regulations are SEA. The information burden on each of these groups consists only of the time and resources needed to submit grant applications. Hence, the regulations would not have a significant impact on any entity because they would not impose excessive regulatory burden or require unnecessary Federal supervision.

Paperwork Reduction Act of 1995

The proposed criteria in this notice identified in the section entitled “Application Requirements,” contain information collection requirements. Under the Paperwork Reduction Act of 1995 (44 U.S.C. 3507(d)), the Department of Education has submitted a copy of this notice and the information collection to the Office of Management and Budget (OMB) for its review.

Collection of Information: Migrant Education Program Consortium Incentive Grant program.

Applicants for MEP Consortium Incentive Grant funds would need to submit a program application that responds to the selection criteria announced in this notice. Applicants also would need to provide certain minimum information identified in the “Application Requirements” section of this notice.

We collect information once from applicants for this program. We estimate annual reporting and recordkeeping burden for this collection of information to average 50.67 hours for each application for 15 SEA respondents, including the time for reviewing instructions, searching existing data sources, gathering and maintaining the data needed, and completing and reviewing the collection of information. Thus, we estimate the total annual reporting and recordkeeping burden for this collection on all those preparing application under the State Program to be a total of 380 hours.

If you want to comment on the information collection requirements, please send your comments to the Office of Information and Regulatory Affairs, OMB, room 10235, New Executive Office Building, Washington, DC 20503; Attention: Desk Officer for U.S. Department of Education. You may also send a copy of these comments to the Department representative named in the ADDRESSES section of this preamble.

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the information we collect; and

• Minimizing the burden on those who must respond. This includes exploring the use of appropriate automated, electronic, mechanical, or other technological collection techniques or other forms of information technology; e.g., permitting electronic submission of responses.

OMB is required to make a decision concerning the collections of information contained in these proposed regulations between 30 and 60 days after publication of this document in the Federal Register. Therefore, to ensure that OMB gives your comments full consideration, it is important that OMB receives the comments within 30 days of publication. This does not affect the deadline for your comments to us on the proposed regulations.

Requests for copies of the proposed application packages for the Migrant Education Program Consortium Incentive Grant program may be accessed at http://edicsweb.ed.gov, or should be addressed to Vivian Reese, Department of Education, 400 Maryland Avenue, SW., Room 5624, Regional Office Building 3, Washington, D.C. 20202-4651. Requests may also be electronically mailed to the Internet address OCIO_IMG_Issues@ed.gov or faxed to 202-708-9346.

Intergovernmental Review

This program is subject to Executive Order 12372 and the regulations in 34 CFR Part 79. One of the objectives of the Executive order is to foster an intergovernmental partnership and a strengthened federalism. The Executive order relies on processes developed by State and local governments for coordination and review of proposed Federal financial assistance.

This document is intended to provide early notification of our specific plans and actions for this program.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

You may also view this document in text at the following site: http://www.ed.gov/offices/OESE/OME/index.html.

Note: The official version of this document is the document published in the Federal Register. Free Internet access to the official edition of the Federal Register and the Code of Federal Regulations is available on GPO Access at: http://www.access.gpo.gov/nara/index.html.

(Catalog of Federal Domestic Assistance Number 84.144: (Migrant Education Coordination Program)
Dated: July 7, 2003.
Eugene W. Hickok,
Under Secretary of Education.

[FR Doc. 03-17532 Filed 7-10-03; 8:45 am]

BILLING CODE 4000-01-P